DEPARTMENT OF THE INTERIOR

Bureau of Land Management

[CO-03-840-1610-241A]

Canyons of the Ancients National Monument Advisory Committee Meeting

AGENCY: Bureau of Land Management, Interior.

ACTION: Notice of meeting.

SUMMARY: In accordance with the Federal Land Policy and Management Act (FLPMA) and the Federal Advisory Committee Act of 1972 (FACA), the U.S. Department of the Interior, Bureau of Land Management (BLM) Canyons of the Ancients National Monument (Monument) Advisory Committee (Committee), will meet as directed below.

DATE: The meeting will be held July 29, 2003 at the Anasazi Heritage Center in Dolores, Colorado at 9 a.m. The public comment period will begin at approximately 3:30 p.m. and the meeting will adjourn at approximately 4:30 p.m.

FOR FURTHER INFORMATION CONTACT: LouAnn Jacobson, Monument Manager or Stephen Kandell, Monument Planner, Anasazi Heritage Center, 27501 Hwy 184, Dolores, Colorado 81323; Telephone (970) 882-4811.

SUPPLEMENTARY INFORMATION: The eleven member committee provides counsel and advice to the Secretary of the Interior, through the BLM, concerning development and implementation of a management plan developed in accordance with FLMPA, for public lands within the Monument. At this meeting, topics we plan to discuss include:

(1) Committee member introductions

(2) Overview and status of the Monument planning process

(3) Monument schedule and budget

(4) Lunch in the field

(5) Public comment period

(6) Advisory Committee meeting strategy

(7) Agenda for next meeting

All meetings will be open to the public and will include a time set aside for public comment. Interested persons may make oral statements at the meetings or submit written statements at any meeting. Per-person time limits for oral statements may be set to allow all interested persons an opportunity to speak.

Summary minutes of all Committee meetings will be maintained at the Anasazi Heritage Center in Dolores, Colorado. They are available for public inspection and reproduction during regular business hours within thirty (30) days of the meeting. In addition, minutes and other information concerning the Committee can be obtained from the Monument Web site at: http://www.co.blm.gov/canm/index.html which will be updated following each Committee meeting.

Dated: June 16, 2003.
LouAnn Jacobson,
Manager, Canyons of the Ancients National Monument.

[FR Doc. 03-15722 Filed 6-20-03; 8:45 am]

BILLING CODE 4310-AG-P